ENVIRONMENTAL PROTECTION AGENCY

[ER-FRL-9026-9]

Environmental Impact Statements; Notice of Availability

Responsible Agency: Office of Federal Activities, General Information (202) 564-7146 or http://www2.epa.gov/nepa.

Weekly receipt of Environmental Impact Statements (EISs) filed 05/02/2016 through 05/06/2016 pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20160098, Final, USFWS, AZ, Pima County Multi-species Conservation Plan, review period ends: 06/13/2016, Contact: Michelle Shaughnessy 505-248-6654.

EIS No. 20160099, Final, USFS, OR, Granite Creek Watershed Mining Project, review period ends: 06/13/2016, Contact: Sophia Millar 541-263-1735.

EIS No. 20160100, Final, FTA, MN, Southwest Light Rail Transit, review period ends: 06/13/2016, Contact: Maya Sarna 202-366-5811.

EIS No. 20160101, Draft, USFS, CA, Littlerock Reservoir Sediment Removal Project, comment period ends: 06/30/2016, Contact: Lorraine Gerchas 626-574-5281.

EIS No. 20160102, Draft, FERC, PA, Atlantic Sunrise Project, comment period ends: 06/27/2016, Contact: Joanne Wachholder 202-502-8056.

EIS No. 20160103, Final, USA, KY, PROGRAMMATIC—U.S. Army Garrison Fort Campbell, Training Mission and Mission Support Activities, review period ends: 06/13/2016, Contact: Trudy Carr 270-798-2877.

EIS No. 20160104, Final, BLM, WY, Energy Gateway South Transmission Project, review period ends: 06/13/2016, Contact: Tamara Gertsch 307-775-6115. Final Supplement, NRC, NV, Supplement to the U.S. Department of Energy's Environmental Impact Statement for a Geologic Repository for the Disposal of Spent Nuclear Fuel and High-Level Radioactive Waste at Yucca Mountain, Nye County, Nevada—Final Report, NUREG-2184, Contact: Christine Pineda 301-415-6789. Prepared in accordance with NWPA § 114 and 10 CFR 51.109, which describes the NRC's NEPA process for its review of the proposed geologic repository at Yucca Mountain, Nevada.

Amended Notices

EIS No. 20150333, Draft, NMFS, USFWS, CA, Butte Regional Conservation Plan, comment period ends: 06/08/2016, Contact: Dan Cox 916-414-6593.

Revision to FR Notice Published 02/19/2016; U.S. Fish and Wildlife Service and the U.S. National Marine Fisheries Service jointly are reopening the comment period to end 06/08/2016.

Dated: May 10, 2016.
Karin Leff,
Acting Director, NEPA Compliance Division, Office of Federal Activities.

[FR Doc. 2016-11347 Filed 5-12-16; 8:45 am]

BILLING CODE 6560-50-P